DEPARTMENT OF COMMERCE

Minority Business Development Agency

Proposed Information Collection; Comment Request; National Minority Enterprise Development (MED) Week Awards Program Requirements

AGENCY: Minority Business Development Agency.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 9, 2015.

ADDRESSES: Direct all written comments to Jennifer Jessup, Departmental Paperwork Clearance Officer, Department of Commerce, Room 7845, 14th and Constitution Avenue NW., Washington, DC 20230 (or via the Internet at jjessup@doc.gov).

FOR FURTHER INFORMATION CONTACT: Requests for additional information or copies of the information collection instrument and instructions should be directed to Antavia Grimsley, Management Analyst, Minority Business Development Agency, U.S. Department of Commerce, Room 5063, 1401 Constitution Avenue NW., Washington, DC, 20230; telephone (202)482-7458, and email: agrimsley@mbda.gov.

SUPPLEMENTARY INFORMATION:

I. Abstract

The Minority Business Development Agency (MBDA) is the only federal agency created exclusively to foster the growth and global competitiveness of minority-owned businesses in the United States. For this purpose, a minority owned business must be owned or controlled by one of the following persons or group of persons: African American, American Indian, Alaska Native, Asian, Hispanic, Native Hawaiian, Pacific Islander, Asian Indian, and Hasidic Jew. MBDA provides management and technical assistance to large, medium, and small minority business enterprises through a network of business centers throughout the United States.

Since 1983, every president has issued a Presidential Proclamation designating one week as National Minority Enterprise Development (MED) Week. MBDA recognizes the role that minority entrepreneurs play in building the Nation's economy by honoring businesses that are making a significant contribution through the creation of jobs, products and services, in addition to supporting their local communities. The MED Week Awards Program is a key element of MED Week and celebrates the outstanding achievements of minority entrepreneurs. MBDA may make awards in the following categories: Minority Construction Firm of the Year, Minority Manufacturer of the Year, Minority Export Firm of the Year, Minority Energy Firm of the Year, Minority Health Products and Services Firm of the Year, Minority Technology Firm of the Year, Minority Marketing and Communication Firm of the Year, Minority Professional Services Firm of the Year and the MBDA Minority Business Enterprise of the Year award. In addition, MBDA may recognize trailblazers and champions through the Access to Capital Award, Advocate of the Year Award, Distinguished Supplier Diversity Award, Ronald H. Brown Leadership Award, and Abe Venable Legacy Award for Lifetime Achievement. All awards will be presented at a ceremony during National MED Week. Nominations for these awards are open to the public. MBDA must collect two types of information: (a) Information identifying the nominee and nominator, and (b) information explaining why the nominee should be given the award. The information will be used to determine those applicants best meeting the preannounced evaluation criterion. Use of a nomination form standardizes and limits the information collected as part of the nomination process. This makes the competition fair and eases the burden on applicants and reviewers. Participation in the MED Week Awards Program competition is voluntary and the awards are strictly honorary.

II. Method of Collection

The form may be submitted electronically or paper format.

III. Data

OMB Control Number: 0640-0025.

Form Number(s): Not applicable.

Type of Review: Regular submission.

Affected Public: Businesses or other for profit organizations, not-for-profit institutions, State, Local, or Tribal government, and Federal government.

Estimated Number of Respondents: 100.

Estimated Time per Response: 2 hours.

Estimated Total Annual Burden Hours: 200.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 4, 2014.
Glenna Mickelson,
Management Analyst, Office of the Chief Information Officer.

[FR Doc. 2014-28846 Filed 12-9-14; 8:45 am]

BILLING CODE 3510-21-P